DEPARTMENT OF AGRICULTURE

Forest Service

Shasta Lake Management Unit, Shasta-Trinity National Forest; California; Green-Horse Habitat Restoration and Maintenance Project

AGENCY: Forest Service, USDA.

ACTION: Notice of intent to prepare an environmental impact statement.

SUMMARY: The Shasta-Trinity National Forest proposes to reduce fuels on approximately 41,816 acres under the Green-Horse Habitat Restoration and Maintenance Project. Proposed treatments include mostly prescribed underburning, with some thinning, pruning, piling, and pile burning. The proposed action does not include any commercial timber harvest, new forest system or temporary road construction, or existing road reconstruction.

DATES: Comments concerning the scope of the analysis must be received by June 30, 2011. The draft environmental impact statement is expected to be completed in January of 2012 and the final environmental impact statement is expected in August of 2012.

ADDRESSES: Send written comments to Betsy Hammet, 1602 Ontario Street, Sandpoint, ID 83864. Comments may also be submitted via e-mail to comments-pacificsouthwest-shasta-trinity@fs.fed.us with “Green-Horse Habitat Restoration and Maintenance” in the subject line, or by facsimile to (530) 275-1512.

FOR FURTHER INFORMATION CONTACT: Project leader Betsy Hammet, 1602 Ontario Street, Sandpoint, ID 83864. Phone: (208) 263-1059; e-mail address: ahammet@fs.fed.us. Comments may also be provided during normal business hours via telephone by calling project fuels specialist Ben Newburn at (530) 339-0024; e-mail address: bnewburn@fs.fed.us. Individuals who use telecommunication devices for the deaf (TDD) may call (530) 242-5526.

SUPPLEMENTARY INFORMATION: The majority of the project area is located within the Shasta Lake Unit of the Shasta-Trinity National Forest, in Shasta County, approximately 20 miles northeast of Redding, California. The project area encompasses approximately 46,336 acres. A detailed description of the proposed action and treatment map can be downloaded from the Forest Web site at http://www.fs.fed.us/nepa/nepa_projects?forest=110514.

Purpose and Need for Action

The project's purpose and need arose from a comparison of the existing and desired conditions within the project area. Desired conditions have been identified in the Shasta-Trinity National Forest Land and Resource Management Plan (hereafter referred to as the “forest plan”). The purpose of the project is as follows:

• Reduce fuel accumulations in the project area and trend the area toward historic fire regime conditions.

• Reduce the risks and consequences of public health and safety concerns related to poor air quality during wildfire events.

• Protect, enhance or maintain wildlife habitat quality, in particular for threatened, endangered and Forest Service sensitive species (e.g., bald eagles).

• Protect, enhance or maintain scenic values, campgrounds, trails and other recreational values.

Proposed Action

Approximately 41,637 acres are proposed for prescribed underburning. In addition, hand thinning and/or brush cutting, pruning, piling, and burning of hand piles and/or underburning would occur on approximately 92 acres 50 feet from private property boundaries and on approximately 83 acres within 300 feet surrounding bald eagle nest sites. Approximately 4.61 miles (about 4 acres) of dozer firelines would be improved or constructed. Dozer lines would be approximately 8 feet wide. Project design features are included in the proposal to ensure protection of a variety of forest resources. The proposed treatment methods and prescriptions would be accomplished using an adaptive management strategy to allow modification of treatments if necessary during implementation.

A project-level forest plan amendment is also proposed. Currently, the forest plan requires an average of 20 tons per acre of downed wood for the limited roaded motorized forest plan management prescription. Management direction for the roaded recreation prescription is an average of 10 tons of unburned dead and down material per acre on slopes less than 40 percent and where feasible, the same amount on slopes over 40 percent. Those down fuel levels contradict current Forest Service Handbook soil standards, which recommend fuel levels of less than about 6 tons per acre overall to reduce the risk of adverse effects to soils from wildfires.

The Shasta-Trinity National Forest proposes to amend the Forest Plan to require an average of 5 to 15 tons per acre for those two management prescriptions. This project-level amendment is proposed to enable the Forest Service to achieve the stated fuel reduction objectives while providing for wildlife habitat needs and protecting soil and soil productivity. The amendment would affect approximately 16,602 acres of areas with limited roaded motorized recreation management prescriptions and 9,662 acres of areas with roaded recreation management prescriptions.

Responsible Official

The responsible official for this proposal is J. Sharon Heywood, Shasta-Trinity Forest Supervisor.

Nature of Decision To Be Made

The responsible official will decide whether to implement the proposed action, no action, or other alternatives considered under analysis. She will consider the comments, responses, disclosure of environmental consequences, and applicable laws, regulations, and policies in making the decision and stating the rationale in the Record of Decision.

Scoping Process

This notice of intent initiates the scoping process, which guides the development of the environmental impact statement. Public scoping will include notices in the newspaper of record, mailings of the scoping package to interested and affected parties and posting of the project on the Shasta-Trinity National Forest project planning webpage and notice in the Quarterly Schedule of Proposed Actions.

Comment Requested

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Comments received in response to this solicitation, including names and addresses of those who comment, will be part of the public record for this proposed action. Comments submitted anonymously will be accepted and considered; however, anonymous comments will not provide the respondent with standing to participate in subsequent administrative or judicial reviews.

Authority: 40 CFR 1501.7 and 1508.22; Forest Service Handbook 1909.15, Section 21.

Dated: May 23, 2011.
J. Sharon Heywood,
Forest Supervisor, Shasta-Trinity National Forest.

[FR Doc. 2011-13235 Filed 5-26-11; 8:45 am]

BILLING CODE 3410-11-P